DEPARTMENT OF STATE

[Public Notice 4455]

Bureau of Political-Military Affairs; Denied Persons Pursuant to UN Security Council Resolution

AGENCY: Department of State.

ACTION: Notice.

SUMMARY: Notice is hereby given of an updated list of persons that are subject to an arms embargo in implementation of UN Security Council Resolutions 1390 (2002) and 1455 (2003). This action is being taken pursuant to sections 38 and 42 of the Arms Export Control Act and in accordance with section 5 of the UN Participation Act (UNPA) and E.O. 12918.

EFFECTIVE DATE: August 25, 2003.

FOR FURTHER INFORMATION CONTACT: Mary Sweeney, Office of Defense Trade Controls Management, Directorate of Defense Trade Controls, Bureau of Political-Military Affairs, Department of State (202) 633-2700.

SUPPLEMENTARY INFORMATION: UN Security Council Resolutions 1390 (2002) and 1455 (2003) require UN Member States to implement an arms embargo (and other sanctions) against those individuals, groups, undertakings and entities listed in the consolidated list created in accordance with UN Security Council Resolutions 1267 (1999) and 1333 (2000) and maintained by the UN 1267 Sanctions Committee. Specifically, the resolutions require that Member States prevent the direct or indirect supply, sale and transfer, to those on the 1267 Sanctions Committee list, from their territories or by their nationals outside their territories, or using their flag vessels or aircraft, of arms and related material of all types including weapons and ammunition, military vehicles and equipment, paramilitary equipment, and spare parts for the aforementioned and technical advice, assistance, or training related to military activities.

Effective October 24, 2002, U.S. manufacturers and exporters and any other affected parties were notified that the Department imposed a policy of denial for any new license application or other request for approval for the export or transfer of defense articles (including technical data) or defense services (whether or not all the information relied upon by the U.S. person in performing the defense service is in the public domain) if any of the names on the list published on October 24, 2002 appear in connection with the application or other request for approval subject to section 38 of the Arms Export Control Act. Further, that action also precluded the use of any exemptions from licensing or other approval (e.g. brokering) requirements available under the International Traffic in Arms Regulations (ITAR) involving any person on the list. A consolidated list created pursuant to UN Security Council Resolutions 1267 (1999), 1333 (2000) and 1390 (2002), updated on September 11, 2002, was published in the Federal Register on October 24, 2002, by the Bureau of Political-Military Affairs. This notice contains the list updated as of June 25, 2003, which also reflects UN Security Council Resolution 1455, adopted in January 2003.

Thus, U.S. manufacturers and exporters and any other affected parties are hereby notified the Department has imposed a policy of denial for any new license application or other request for approval for the export or transfer of defense articles or defense services if any of the names on the list below appear in connection with the application or other request for approval subject to section 38 of the Arms Export Control Act. This action also precludes the use of any exemptions from licensing or other approval (e.g. brokering) requirements available under the ITAR involving any person on the list.

The term “person”, as defined in 22 CFR 120.14 of the ITAR, means a natural person as well as a corporation, business association, partnership, society, trust, or any other entity, organization or group, including governmental entities.

This action has been taken pursuant to sections 38 and 42 of the Arms Export Control Act (22 U.S.C. 2778 and 2791) and 126.7 of the International Traffic in Arms Regulations in furtherance of the foreign policy of the United States, and in accordance with section 5 of the UNPA (22 U.S.C. 287(c)) and E.O. 12918.

In accordance with these authorities the following persons are subject to this arms embargo:

A. The list of individuals belonging to or associated with the Taliban.

1. Mullah Mohammad Rabbani, Chairman of the Ruling Council, Head of the Council of Ministers;

2. Mullah Hadji Mohammad Hassan, First Deputy, Council of Ministers; Governor of Kandahar;

3. Maulavi Abdul Kabir, Second Deputy, Council of Ministers; Governor of Nangahar Province; Head of Eastern Zone;

4. Mullah Mohammed Omar, Leader of the Faithful (‘Amir ul-Mumineen’), Afghanistan;

5. Mullah Mohammed Tahre Anwari, Administrative Affairs;

6. Maulavi Sayyed Haqqan, Minister of Administrative Affairs;

7. Maulavi Abdul Latif Mansur, Minister of Agriculture;

8. Mullah Shams-ur-Rahman, Deputy Minister of Agriculture;

9. Maulavi Attiqullah Akhund, Deputy Minister of Agriculture;

10. Maulavi Abdul Ghafoor, Deputy Minister of Agriculture;

11. Akhtar Mohammad Mansour, Minister of Civil Aviation and Transportation;

12. Hadji Tahis, Deputy Minister of Civil Aviation;

13. Mullah Mohammad Naim, Deputy Minister of Civil Aviation;

14. Hidayatuallah Abu Turab, Deputy Minister of Civil Aviation;

15. Mullah Yar Mohammad Rahimi, Minister of Communication;

16. Mullah Haji Alla Dad Tayeb, Deputy Minister of Communication;

17. Maulavi Abdul Razaq, Minister of Commerce;

18. Maulavi Faiz Mohammad Faizan, Deputy Minister of Commerce;

19. Maulavi Nik Mohammad, Deputy Minister of Commerce;

20. Mullah Matiullah, Kabul Custom House;

21. Maulavi Dadullah Akhund, Minister of Construction;

22. Mullah Hadji Ubaidullah Akhund, Minister of Defense;

23. Mullah Fazel M. Mazloom, Deputy Chief of Army Staff;

24. Mullah Baradar, Deputy Minister of Defence;

25. Mullah Abdul Rauf, Commander of Central Corpus;

26. Mullah Amir Khan Motaql, Minister of Education;

27. Mullah Mohammad Nasim Hanafi, Deputy Minister of Education;

28. Maulavi S. Ahmed Skahidkhel, Deputy Minister of Education;

29. Mullah Abdul Wasay Aghajan Motasem, Minister of Finance;

30. Mullah Arefullah Aref, Deputy Minister of Finance;

31. Mullah M. Ahmadi, President of Da Afghanistan Bank;

32. Abdul Wakil Mutawakil, Minister of Foreign Affairs;

33. Abdul Rahman Zahed; Deputy Minister of Foreign Affairs;

34. Mullah Abdul Jalil, Deputy Minister of Foreign Affairs;

35. Dr. Abdul Satar Paktis, Protocol Dept., Ministry of Foreign Affairs;

36. Maulavi Faiz, Information Dept., Ministry of Foreign Affairs;

37. Shams-us-Safa Aminzai, Press-Centre, Ministry of Foreign Affairs;

38. Maulavi Abdul Baqi, Consulate Dept., Ministry of Foreign Affairs;

39. M. Jawaz Waziri, UN Dept., Ministry of Foreign Affairs;

40. Maulavi Djallalouddine Haqani, Minister of Frontier Affairs;

41. Maulavi Abdul Hakim Monib, Deputy Minister of Frontier Affairs;

42. Alhaj M. Ibrahim Omari, Deputy Minister of Frontier Affairs;

43. Qari Din Mohammad, Minister Higher Education;

44. Maulavi Hamidullah Nomani, High Ranking Official in the Ministry of Higher Education;

45. Zabihullah Hamidi, Deputy Minister of Higher Education;

46. Maulavi Arsalan Rahmani, Deputy Minister of Higher Education;

47. Maulavi Qudratuallah Jamal, Minister of Information;

48. Mullah Abdul Baqi, Vice-Minister of Information and Culture;

49. Maulavi Abdul Rahman Ahman Hottak, Deputy (Cultural) Minister of Information and Culture;

50. Maulavi Rahimullah Zurmati, Deputy (Publication) Minister of Information and Culture;

51. Abdulhai Motmaen, Information and Culture Dept., Kandahar;

52. Maulavi Mohammad Yaqoub, Head of BIA;

53. Mullah Abdul Razaq, Minister of Interior Affairs;

54. Mullah Abdul Samad Khaksar, Deputy (Security) Minister of Interior Affairs;

55. Mohammad Sharif, Deputy Minister of Interior Affairs;

56. Maulavi Noor Jalal, Deputy (Administrative) Minister of Interior Affairs;

57. Maulavi Saed M. Azim Agha, Passport and Visa Dept.;

58. Mullah Nooruddin Turabi, Minister of Justice;

59. Maulavi Jalaluddine Shinwari, Deputy Minister of Justice;

60. Alhaj Mullah Mohammad Essa Akhund, Minister of Mines and Industries;

61. Maulavi Sayeedur Rahman Haqani, Deputy Minister of Mines and Industries;

62. Mullah Abdul Salam Zaief, Deputy Minister of Mines and Industries;

63. Maulavi Mohammad Azam Elmi, Deputy Minister of Mines and Industries;

64. Qari Din Mohammad Hanif, Minister of Planning;

65. Maulavi Ezatullah, Deputy Minister of Planning;

66. Maulavi M. Musa Hottak, Deputy Minister of Planning;

67. Mullah Mohammad Abbas Akhund, Minister of Public Health;

68. Sher Abbas Stanekzai, Deputy Minister of Public Health;

69 Maulavi Mohammadullah Mati, Minister of Public Works;

70. Maulavi Rostam Nuristani, Deputy Minister of Public Works;

71. Hadji Molla Atiqullah, Deputy Minister of Public Works;

72. Maulavi Najibullah Haqqani, Deputy Minister of Public Works;

73. Maulavi Sayyed Ghiassouddine Agha, Minister of Haj and Religious Affairs;

74. Maulavi Moslim Haqqani, Deputy Minister of Haj and Religious Affairs;

75. Maulavi Qalamudin Momand, Deputy Minister of Haj Afairs;

76. Maulavi Abdul Raqib Takhari, Minister of Repatriation;

77. Ramatullah Wahidyar, Deputy Minister for Martyrs and Repatriation;

78. Mohammad Sediq Akhundzada, Deputy Minister of Martyrs and Repatriation;

79. Maulavi Mohammad Wali, Minister of Department of Preventing Vice and Propagating Virtue;

80. Maulavi Mohammad Salim Haqqani, Deputy Minister of Preventing Vice and Propagating Virtue;

81. Maulavi Sayed Esmatullah Asem, Deputy Minister of Preventing Vice and Propagating Virtue;

82. Qari Ahmadulla, Minister of Security (Intelligence);

83. Maulavi Abdul-Haq-Wasseq, Deputy Minister of Security (Intelligence);

84. Maulavi Ehsanullah, Deputy Minister of Security (Intelligence);

85. Mullah Habibullah Reshad, Head of Investigation Dept.;

86. Mullah Ahmed Jan Akhund, Minister of Water and Electricity;

87. Eng. Mohammad Homayoon, Deputy Minister of Water and Electricity;

88. Maulavi Saiduddine Sayyed, Vice-Minister of Work and Social Affairs;

89. Maulavi Abdul Jabbar, Governor of Baghlan Province;

90. Maulavi Nurullah Nuri, Governor of Balkh Province; Head of Northern Zone;

91. Muhammad Islam, Governor of Bamiyan Province;

92. Mullah Janan, Governor of Fariab;

93. Mullah Dost Mohammad, Governor of Ghazni Province;

94. Maulavi Khair Mohammad Khairkhwah, Governor of Heart Province;

95. Maulavi Abdul Bari, Governor of Helmand Province;

96. Maulavi Walijan, Governor of Jawzjan Province;

97. Mullah M. Hasan Rahmani, Governor of Kandahar Province;

98. Mullah Manan Nyazi, Governor of Kabul Province;

99. Maulavi A. Wahed Shafiq, Deputy Governor of Kabul Province;

100. Alhaj Mullah Sadudin Sayed, Mayor of Kabul City;

101. Maulavi Shafiquallah Mohammadi, Governor of Khost Province;

102. Maulavi Nazar Mohammad, Governor or Kunduz Province;

103. M. Eshaq, Governor of Laghman Province;

104. Maulavi Zia-ur-Rahman Madani, Governor of Logar Province;

105. Maulavi Hamsudin, Governor of Wardak (Msidan) Province;

106. Maulavi A. Kabir, Governor of Nangarhar Province;

107. Mullah M. Rasul, Governor of Nimroz Province;

108. Maulavi Tawana, Governor of Paktia Province;

109. Mullah M. Shafiq, Governor of Samangan Province;

110. Maulavi Aminullah Amin, Governor of Saripul Province;

111. Maulavi Abdulhai Salek, Governor of Urouzgan Province;

112. Maulavi Ahmad Jan, Governor of Zabol Province;

113. Noor Mohammad Saqib, Chief Justice of Supreme Court;

114. Maulavi Sanani, Head of Dar-ul-Efta;

115. Maulavi Samiullah Muazen, Deputy of High Court;

116. Maulavi Shahabuddin Delawar, Deputy of High Court;

117. Abdul Rahman Agha, Chief Justice of Military Court;

118. Mullah Mustasaed, Head of Academy of Sciences;

119. Maulavi Esmatullah Asem, SG of Afghan Red Crescent

Society (ARCS);

120. Maulavi Qalamuddin, Head of Olympic Committee;

121. Abdul Salam Zaeef, Taliban Ambassador to Pakistan;

122. Abdul Hakim Mujahid, Taliban envoy to the United Nations;

123. General Rahmatullah Safi, Taliban representative in Europe;

124. Mullah Hamidullah, Head of Ariana Afghan Airlines;

125. Alhaj Mullah Sadruddin, Mayor of Kabul City;

126. Amir Khan Muttaqi, Taliban representative in UN-led talks;

127. Mr Jan Mohmmad Madani, Charge d'Affaires, Taliban Embassy, Abu Dhabi;

128. Mr Shamsalah Kmalzada, Second Secretary, Taliban Embassy, Abu Dhabi;

129. Mr Azizirahman, Third Secretary, Taliban Embassy, Abu Dhabi;

130. Mr Mawlawi Abdul Manan, Commercial Attache, Taliban Embassy, Abu Dhabi;

131. Malawi Abdul Wahab, Taliban Charge d'Affairs in Riyadh; Taliban “Embassy,” Islamabad

132. Mullah Abdul Salam Zaeef (Ambassador Extraordinary & Plenipotentiary);

133. Ilabibullab Fauzi (First Secretary/Deputy Head of Mission);

134. Mohammad Sohail Shaheen (Second Secretary);

135. Mohammad Sarwar Siddiqmal (Third Secretary);

136. Mullah Mohammad Zahid (Third Secretary);

137. General Abdul Qadeer (Military Attache);

138. Maulavi Nazirullah Anafi (Commercial Attache);

139. Maulavi Abdul Ghafar Qurishi (Repatriation Attache);

140. Mohammad Daud (Administrative Attache);

Taliban “Consulate General,” Peshawar

141. Maulavi Najibullah (Consul General);

142. Qari Abdul Wali (First Secretary);

143. Syed Allamuddin (Second Secretary);

144. Maulavi Akhtar Mohmmad (Education Attache);

145. Alhaj Maulavi Mohammad Saddiq (Trade Representative);

Taliban “Consulate General,” Karachi

146. Maulavi Rahamatullah Kakazada (Consul General);

147. Mufti Mohammad Aleem Noorani (First Secretary);

148. Haji Abdul Ghafar Shenwary (Third Secretary);

149. Maulavi Gul Ahmad Hakimi (Commercial Attache); Taliban

“Consulate General,” Quetta

150. Maulavi Abdullah Murad (Consul General);

151. Maulavi Abdul Haiy Aazem (First Secretary);

152. Maulavi Hamdullah (Repatriation Attache);

B. The list of entities belonging to or associated with the Taliban.

1. De Afghanistan Momtaz Bank.

C. List of individuals belonging to or associated with Al-Qaida organization.

1. Saiyid Abd Al-Man (a.k.a. Abdul Manan, a.k.a. Agha Haji; a.k.a. Am); Other information: Pakistan;

2. Youssef Abdaoui; (a.k.a. Abu Abdullah, a.k.a. Abdellah, a.k.a. Abdullah); DOB: 4 June 1966; POB: Kairouan, Tunisia; Address: Piazza Giovane Italia n.2, Varese, Italy;

3. Ali Abbas Abdi; Other information: Mogadishu, Somalia;

4. Majeed, Abdul Chaudhry (a.k.a. Majeed, Abdul; a.k.a. Majeed Chaudhry Abdul; a.k.a. Majid, Abdul) DOB: 15 April 1939; alt. DOB 1938; Nationality: Pakistani;

5. Abdullah Ahmed Abdullah (a.k.a. Abu Mariam; a.k.a. Al-Masri, Abu Mohamed; a.k.a. Saleh); DOB: 1963; POB: Egypt; Nationality Egypt; Other information: Afghanistan;

6. Mohamad Iqbal Adburrahman (a.k.a. Rahman, Mohamad Iqbal; a.k.a. A Rahman, Mohamad Iqbal; a.k.a. Abu Jibril Abdurrahman; a.k.a. Fikiruddin Muqti; a.k.a. Fihiruddin Muqti); Nationality Indonesian;

7. Ibrahim Ali Muhammad Abu Bakr (a.k.a. Al-Libi, Abd al-Muhsin); Other information: Affiliated with Afghan Support Committee (ASC) and Revival of Islamic Heritage Society (RIHS);

8. Amin Muhammad Ah Haq (a.k.a. Al-Haq, Amin; a.k.a. Amin, Muhammad; a.k.a. Dr. Amin; a.k.a. Ul-Haq, Dr. Amin); DOB: 1960; POB: Nangahar Province, Afghanistan; Nationality Afghan; Other information: Security coordinator for Usama Bin Laden;

9. Mustafa Muhammad Ahmad (a.k.a. Shaykh Sai'id); POB: Egypt;

10. Mohamed Amine Akli (a.k.a. Akli Amine Mohamed, a.k.a. Killech Shamir, a.k.a. Kali Sami, a.k.a. Elias); DOB: 30 March 1972; POB: Abordj El Kiffani (Algeria);

11. Mohammad Hamdi Sadiq Al-Ahdal (a.k.a. Al-Hamati, Muhammad; a.k.a. Al-Makki, Abu Asim); Other information: Yemen;

12. Khalid Al-Fawaz (a.k.a. Al-Fauwaz, Khaled; a.k.a. Al-Fauwaz Kaled A.; a.k.a. Al-Fawwaz, Khalid; a.k.a. Al Fawwaz, Khalik; a.k.a. Al-Fawwaz, Khaled; a.k.a. Al-Fawwaz, Khaled; a.k.a. Al Fawwaz, Khaled); DOB: August 25, 1962; 55 Hawarden Hill, Brooke Road, London NW2 7BR, UK;

13. Ahmed Mohammed Hamed Ali (a.k.a. Abdurehman, Ahmed Mohammed; a.k.a. Ahmed Hamed; a.k.a. Ali, Ahmed Mohammed; a.k.a. Ali, Hamed; a.k.a. Hemed, Ahmed; a.k.a. Shieb, Ahmed; a.k.a. Abu Fatima; a.k.a. Abu Islam; a.k.a. Abu Khadiijah; a.k.a. Ahmed The Egyptian; a.k.a. Ahmed, Ahmed; a.k.a. Al-Masri, Ahmad; a.k.a. Al-Surir, Abu Islam; a.k.a. Shuaib); DOB: 1965; POB: Egypt; Nationality: Egypt; Other information: Afghanistan;

14. Jim'ale Ahmed Nur Ali (a.k.a. Jimale, Ahmed Ali; a.k.a. Jim'ale, Ahmad Nur Ali; a.k.a. Jumale, Ahmed Nur; a.k.a. Jumali, Ahmed Ali) P.O. Box 3312, Dubai, UAE; Other information: Mogadishu, Somalia;

15. Abd Al-Hadi Al-Iraqi (a.k.a. Abdal Al-Hadi Al-Iraqi; a.k.a. Abu Abdallah);

16. Saqar Al-Jadawi; DOB: 1965; Thought to be a Yemeni and Saudi national; Other information: Aide to Usama Bin Laden;

17. Abu Bakr Al-Jaziri; Nationality Algerian, Address: Peshawar, Pakistan; Other information: Affiliated with Afghan Support Committee (ASC);

18. Ahmad Sa'id Al-Kadr (a.k.a. Al-Kanadi, Abu Abd Al-Rahman); DOB: 01 March 1948; POB: Cairo, Egypt; Thought to be an Egyptian and Canadian national.;

19. Ibn Al-Shaykh Al-Libi;

20. Yasin Al-Qadi (a.k.a. Kadi, Shaykh Yassin Abdullah; a.k.a. Kahdi, Yasin); Other information: Jeddah, Saudi Arabia.

21. Nazih Abdul Hamed Al-Raghie (a.k.a. Anas Al-Liby; a.k.a. Al-Libi, Anas; a.k.a. Al-Raghie, Nazih; a.k.a. Al-Sabai, Anas); DOB: 30 Mar 1964; Alt. DOB: 14 May 1964; POB: Tripoli, Libya; Nationality: Libya; Other information: Afghanistan;

22. Tariq Anwar Ahmad Al-Sayyid (a.k.a. Hamdi Ahmad Farag, a.k.a. Amr Al-Fatih Fathi); DOB: 15 March 63; POB: Alexandria, Egypt;

23. Sa'd Al-Sharif; DOB: 1969; POB: Saudi Arabia; Other information: Brother-in-law and close associate of Usama Bin Laden. Said to be head of Usama Bin Laden's financial organization;

24. Mahfouz Ould Al-Walid; a.k.a. Abu Hafs the Mauritanian; a.k.a. Khalid Al-Shanqiti; a.k.a. Mafouz Walad Al-Walid; a.k.a. Mahamedou Ouid Slahi) DOB: 1 Jan 75;

25. Aiman Muhammed Rabi Al-Zawahiri (a.k.a. Ayman Al-Zawahari; a.k.a. Ahmed Fuad Salim) DOB: 19 Jun 1951; POB: Giza, Egypt; Nationality: thought to be Egyptian; Other information: Operational and Military Leader of Jihad Group. Thought to be an Egyptian national. Former leader of Egyptian Islamic Jihad, now a close associate of Usama Bin Laden;

26. Mehrez Amdouni (a.k.a. Fabio Fusco, a.k.a. Mohamed Hassan, a.k.a. Abu Thale); DOB: 18 Dec. 1969; POB: Tuni, Tunisia;

27. Muhammed Atif (a.k.a. Subhi Abu Sitta; a.k.a. Sheik Taysir Abdullah; a.k.a. Mohamed Atef; a.k.a. Abu Hafs Al Masri; a.k.a. Abu Hafs Al Masri El Khabir; a.k.a. Taysir) DOB: 1956; Alt. DOB: 1951; Alt. DOB: 1944; POB: Alexandria, Egypt; Thought to be an Egyptian national; Other information: Senior lieutenant to Usama Bin Laden;

28. Muhsin Musa Matwalli Atwah (a.k.a. Al-Muhajir, Abdul Rahman; a.k.a. Al-Namer, Mohammed K.A.; a.k.a. Abdel Rahman; a.k.a. Abdul Rahman); DOB: 19 Jun 1964; POB: Egypt; Nationality: Egypt; Other information: Afghanistan;

29. Chiheb Ben Mohamed Ayari (a.k.a. Hichem Abu Hchem); DOB: 19 Dec 1965; POB: Tunis (Tunisia); Address: Via di Saliceto n. 51/9, Bologna, Italy;

30. Mondher Baazaoui (a.k.a. Hamza); DOB: 18 March 1967; POB: Kairouan (Tunisia); Address: Via di Saliceto n. 51/9, Bologna, Italy;

31. Said Bahaji; DOB: July 15, 1975; POB: Haselunne/Lower Saxony/Germany; Nationality: Germany; formerly resident at Bunatwiete 23, 21073 Hamburg/Germany;

32. Mahmood Sultan Bashir-Ud-Din (a.k.a. Mahmood, Sultan Bashiruddin; a.k.a. Mehmood, Dr. Bashir Uddin; a.k.a. Mekmud, Sultan Baishiruddin) DOB: 1937; Alt. DOB: 1938; Alt. DOB 1939; Alt. DOB: 1940; Alt. DOB: 1941; Alt. DOB: 1942; Alt. DOB: 1943; Alt. DOB: 1944; Alt. DOB: 1945; Nationality: Pakistani; Address: Street 13, Wazir Akbar Khan, Kabul, Afghanistan;

33. Aouadi, Mohamed Ben Belgacem Ben Abdallah (a.k.a. Aouadi, a.k.a. Mohamed Ben Belkacem); DOB: 12/11/1974; POB: Tunis, Tunisia; Nationality: Tunisian; Address: Via A. Masina n. 7, Milan, Italy; Alt. Address: Via Dopini No 3, Gallarati-Italy; Other information: His mother's name is Bent Ahmed Ourida;

34. Charaabi, Tarek Ben Bechir Ben Amara (a.k.a. Sharaabi, Tarek, a.k.a. Haroun; a.k.a. Frank); DOB: 03/31/1970; POB: Tunis, Tunisia; Nationality: Tunisian; Address: Viale Bligny n.42, Milan, Italy; Other information: His mother's name is Charaabi Hedia;

35. Lased Ben Heni; DOB: 02/05/1969; POB: Libya;

36. Ayadi Shafiq Ben Mohamed Ben Mohamed (a.k.a. Bin Muhammad, Ayadi Chafiq, a.k.a. Ayadi Chafik, a.k.a. Ben Muhammad; a.k.a. Aiadi, Ben Muhammad; Aiady, Ben Muhammad; a.k.a. Ayadi Shafig Ben Mohamed; a.k.a. Ben Mohamed, Ayadi Chafig; a.k.a. Abou El Baraa); DOB: 21 March 1963; POB: Sfax, Tunisia; Nationality: Tunisian; Alt. Nationality: Bosnian; Alt. Nationality: Austrian; Address: Helene Meyer Ring 10-1415-80809, Munich, Germany; 129 Park Road, NW8, London, England; 28 Chausse Di Lille, Moscron, Belgium, Darvingasse 1/2/58-60, Vienna, Austria; Other information: Tunisia; He is in Ireland. His mother's name is Medina Abid.;

37. Bouchoucha Mokhtar Ben Mohamed Ben Mokhtar ( a.k.a. Bushusha, Mokhtar); DOB: 13 October 1969; POB: Tunis, Tunisia; Nationality: Tunisian; Address: Via Milano n.38, Spinadesco (CR), Italy; Other information: His mother's name is Bannour Hedia;

38. Essid Sami Ben Khemais Ben Salah (a.k.a. Omar El Mouhajer; a.k.a. Saber); DOB: 02/10/1968; POB: Menzel Jemil Bizerte, Tunisia; Nationality: Tunisian; Address: Via Dubini n.3, Gallarate (VA) Italy; Other information: His mother's name is Saidani Beya;

39. Adel Ben Soltane; DOB: July 14, 1970; POB: Tunis, Tunisia; Address: Via Latisana n. 6, Milan, Italy;

40. Nabil Benattia; DOB: May 11, 1966; POB: Tunis, Tunisia;

41. Usama Muhammed Awad Bin Laden (a.k.a. Usama Bin Laden; a.k.a. Usama Bin Muhammed Bin Awad, a.k.a. Osama Bid Laden; a.k.a. Abu Abdallah Abd Al-Hakim); DOB: 30 Jul 57; Alt. DOB: 28 Jul 57; POB: Jeddah, Saudi Arabia; Alt. POB: Yemen; Nationality: Saudi citizenship withdrawn, now officially and Afghan national;

42. Bilal Bin Marwan; DOB: 1947; Other information: Senior lieutenant of Usama Bin Laden;

43. Ramzi Mohamed Abdullah Binalshibh (a.k.a. Binalsheidah, Ramzi Mohamed Abdullah, a.k.a. Bin Al Shibh, Ramzi; a.k.a. Omar, Ramzi Mohamed Abdellah) DOB: May 1st 1972; Alt. DOB: September 16, 1973; POB: Hadramawt/Yemen; Alt. POB: Khartoum, Sudan; Nationality: Yemen; Alt. Nationality: Sudan;

44. Yassine Chekkouri; DOB: October 6, 1966; POB: Safi, Morocco;

45. Aweys Hassan Dahir (a.k.a. Ali, Sheikh Hassan Dahir Aweys, a.k.a. Awes, Shaykh Hassan Dahir); DOB: 1935; Nationality: Somalia;

46. Mamoun Darkazanli (a.k.a. Abu Ilyas; a.k.a. Abu Ilyas Al Suri; a.k.a. Abu Luz) DOB: August 4, 1958; POB: Damascus/Syria; Nationality: Syrian and German; Uhlenhorster Weg 34, Hamburg, 22085 Germany;

47. Lionel Dumont (a.k.a. Jacques Brougere; a.k.a. Bilal; a.k.a. Hamza); DOB: 21 Jan. 1971; POB: Robaix (France);

48. Mounir El Motassadeq; DOB: April 3, 1974; POB: Marrakesh/Morocco; Address: 21073 Hamburg, Goschenstrasse 13;

49. Abdelkader Mahmoud Es Sayed (a.k.a. Es Sayed, Kader); DOB: 12/26/1962; POB: Egypt; Address: Via del Fosso di Centocelle n.66, Rome, Italy;

50. Moussa Ben Amor Essaadi (a.k.a. Dah Dah, a.k.a. Abdelrahmman, a.k.a. Bechir); DOB: 4 Dec. 1964; POB: Tabarka (Tunisia); Address: Via Milano n. 108, Brescia, Italy;

51. Zakarya Essabar; DOB: April 13, 1977; POB: Essaouria/Morocco; Nationality: Morocco; Address: Dortmunder Strasse 38, 22419 Hamburg/Germany;

52. Mustafa Mohamed Fadhil (a.k.a. Al Masri, Abd Al Wakil; a.k.a. Ali, Hassan; a.k.a. Anis, Abu; a.k.a. Elbishy, Moustafa Ali; a.k.a. Fadil, Mustafa Muhamad; a.k.a. Fazul, Mustafa; a.k.a. Mohammed, Mustafa; a.k.a. Al-Nubi, Abu; a.k.a. Hussein, a.k.a. Jihad, Abu; a.k.a. Khalid; a.k.a. Man, Nu; a.k.a. Yussrr, Abu); DOB: 23 Jun 1976; POB: Cairo, Egypt; Nationality: Egypt; Alt. Nationality: Kenya;

53. Rachid Fettar (a.k.a. Amine del Belgio, a.k.a. Djaffar); DOB: 16 April 1969; POB: Boulogin (Algeria); Address: Via degli Apuli n.5, Milan, Italy;

54. Ahmed Khalfan Ghailani (a.k.a. Ahmed, Abubakar; a.k.a. Ahmed, Abubakar; a.k.a. Ahmed, Abubakar K.; a.k.a. Ahmed, Abubakar Khalfan; a.k.a. Ahmed, Abubakary K.; a.k.a. Ahmed, Ahmed Khalfan; a.k.a. Ali, Ahmed Khalfan; a.k.a. Ghailani, Abubakary Khalfan Ahmed; a.k.a. Ghailani, Ahmed; a.k.a. Ghilani, Ahmad Khalafan; a.k.a. Hussein, Mahafudh Abubakar Ahmed Abdallah; a.k.a. Khalfan, Ahmed; a.k.a. Mohammed, Shariff Omar; a.k.a. Ahmed The Tanzanian; a.k.a. Foopie; a.k.a. Fupi; a.k.a. Ahmed, A.; a.k.a. Al Tanzani, Ahmad; a.k.a. Bakr, Abu; a.k.a. Khabar, Abu); DOB: 14 Mar 1974; Alt. DOB: 13 Apr. 1974; Alt. DOB: 14 Apr 1974; Alt. DOB: 1 Aug 1970; POB: Zanzibar, Tanzania; Nationality: Tanzania;

55. Brahim Ben Hedili Hamami; DOB: 20 Nov. 1971; POB: Goubellat (Tunisia); Address: Via de' Carracci n.15, Casalecchio di Reno (Bologna) Italy;

56. Nasr Fahmi Nasr Hasanayn (a.k.a. Muhammad Salah);

57. Gulbuddin Hekmatyar (a.k.a. Gulabudin Hekmatyar; a.k.a. Golboddin Hikmetyar; a.k.a. Gulbuddin Khekmatiyar; a.k.a. Gulbuddin Hekmatiar; a.k.a. Gulbuddin Hekhmartyar; a.k.a. Gulbudin Hekmetyar) DOB: August 1, 1949; POB: Konduz Province, Afghanistan;

58. Ri'ad (Raed) Muhammad Hasan Muhammad Hijazi (a.k.a. Hijazi, Raed M.; a.k.a. Al-Hawen, Abu-Ahmad; a.k.a. Al-Shahid, Abu-Ahmad; a.k.a. Al-Maghribi, Rashid (The Moroccan); a.k.a. Al-Amriki, Abu-Ahmad (The American)); DOB: 30 December 1968; POB: California, U.S.A.; Nationality: Jordanian; Other information: Originally from Ramlah; place of residence while in Jordan—al-Shumaysani (Sheisani) (area of Amman), behind the trade unions complex;

59. Ali Ghaleb Himmat; DOB: 16 June 1938; POB: Damascus, Syria; Nationality: Switzerland; Address: via Posero 2, ch-6911 Campione D'Italia, Italy;

60. Armand Albert Friedrich Huber (a.k.a. Huber, Ahmed); DOB: 1927; Nationality: Switzerland; Address: Rossmimattstrasse 33, 3074 Muri b. Bern, Switzerland;

61. Zayn Al-Abidin Muhammad Husayn (a.k.a. Abu Zubaida; a.k.a. Abd Al-Hadi Al-Wahab; a.k.a. Zain Al-Abidin Muhahhad Husain; a.k.a. Zain Al-Abidin Muhahhad Husain; a.k.a. Abu Zubaydah; a.k.a. Tariq); DOB: 12 March 71; POB: Riyadh, Saudi Arabia; Nationality: Thought to be a Saudi and Palestinian national; Other information: Close associate of Usama Bin Laden and facilitator of terrorist travel;

62. Nasreddin, Ahmed Idris (a.k.a. Nasreddin, Ahmad I.; a.k.a. Nasreddin, Hadji Ahmed; a.k.a. Nasreddine, Ahmed Idriss; a.k.a. Ahmed Idris Nasreddin); DOB 22 November 1929; POB: Adi Ugri, Ethiopia (now Eritrea); Nationality: Italian; Address: Corso Sempione 69, 20149 Milan, Italy; Atl. Address: Piazzale Biancamano, Milan, Italy; Alt. Address: Rue De Cap Spartel, Tangiers, Morocco; Alt. Address: no. 10, Rmilat, Villa Nasreddin in Tangiers, Morocco; Other information: Mr. Nasreddin left his residence at 1 via della Scuole, 6900 Lugano, Switzerland in 1994 and moved to Morocco;

63. Nurjaman Riduan Isamuddin (a.k.a. Hambali; a.k.a. Nurjaman; a.k.a. Isomuddin, Nurjaman Riduan); DOB: April 4, 1964; POB: Cianjur, West Java, Indonesia; Nationality: Indonesian; Other information: Born: Encep Nurjaman;

64. Khalil Jarraya (a.k.a. Khalil Yarraya, a.k.a. Ben Narvan Abdel Aziz, a.k.a. Amro, a.k.a. Omar, a.k.a. Amr); DOB: 8 Feb. 1969; POB: Sfax (Tunisia); Address: Via Bellaria n.10, Bologna, Italy; Alt. Address: Via Lazio n.3, Bologna, Italy; Other information: Identified as Abdel Aziz Ben Narvan, born in Sereka (ex-Yugoslavia) on 15 August 1970;

65. Mounir Ben Habib Jarraya; (a.k.a. Yarraya); DOB: 25 October 1963; POB: Sfax (Tunisia); Address: Via Mirasole n.11, Bologna, Italy; Alt. Address: Via Ariosto n.8, Casalecchio di Reno (Bologna), Italy;

66. Riadh, Jelassi; DOB: December 15, 1970; POB: Tunisia;

67. Faouzi Jendoubi (a.k.a. Said, a.k.a. Samir); DOB: 30 January 1966; POB: Beja (Tunisia); Address: Via Agucchi n.250, Bologna, Italy; Alt. Address: Via di Saliceto n.51/9, Bologna, Italy;

68. Wa'el Hamza Julaidan (a.k.a. Wa'il Hamza Julaidan; a.k.a. Wa'el Hamza Jalaidan; a.k.a. Wa'il Hamza Jalaidan; a.k.a. Wa'el Hamza Jaladin; a.k.a. Wa'il Hamza Jaladin; a.k.a. Abu Al-Hasan Al Madani); DOB: 22 January 1958; POB: Al-Madinah, Saudi Arabia;

69. Abdullahi Hussein Kahie; Other information: Bakara Market, Dar Salaam Buildings, Mogadishu, Somalia;

70. Mehdi Kammoun; DOB: April 3, 1968; POB: Tunis, Tunisia; Address: Via Masina n. 7, Milan, Italy;

71. Samir Kishk; DOB: May 14, 1955; POB: Gharbia, Egypt;

72. Mufti Rashid Ahmad Ladehyanoy (a.k.a. Ludhianvi, Mufti Rashid Ahmad; a.k.a. Armad, Mufti Rasheed; a.k.a. Wadehyanoy, Mufti Rashid Ahmad); Other information: Karachi, Pakistan;

73. Tarek Ben Habib Maaroufi; DOB: November 23, 1965; POB: Ghardimaou, Tunisia;

74. Abdullkadir Hussei Mahamud; Other information: Florence, Italy;

75. Uthman Omar Mahmoud (a.k.a. Uthman, Al-Samman; a.k.a. Uthman, Umar; a.k.a. Al-Filistini, Abu Qatada; a.k.a. Takfiri, Abu Umr; a.k.a. Abu Umar, Abu Omar; a.k.a. Umar, Abu Umar; a.k.a. Abu Ismail); DOB: 30 December 1960; Atl. DOB: 13 December 1960; Other information: London, England;

76. Fethi Ben Rebai Mnasri (a.k.a. Fethi Alic, a.k.a. Amor, a.k.a. Omar Abu); DOB: 6 March 1969; POB: Nefza (Tunisia); Address: Via Toscana n.46, Bologna, Italy; Alt. Address: Via di Saliceto n. 51/9, Bologna, Italy;

77. Mansour Mohamed (a.k.a. Al-Mansour, Dr. Mohamed), DOB: 30.08.1928; POB: Egypt; Alt. POB: UAE; Nationality: Switzerland; Address: Obere Heslibachstrasse 20, 8700 Kuesnacht, ZH, Switerland; Other information: Zurich, Switzerland;

78. Zia Mohammad (a.k.a. Zia, Ahmad); Address: C/O Ahmed Shah ­C/O Painda Mohammad Al-Karim Set, Peshawar, Pakistan; Alt. Address: C/O Alam General Store Shop 17, Awami Market, Peshawar, Pakistan; Alt. Address: C/O Zahir Sha S/;

79. Fazul Abdullah Mohammed (a.k.a. Abdalla, Fazul; a.k.a. Adballah, Fazul; a.k.a. Ali, Fadel Abdallah Mohammed; a.k.a. Fazul Abdalla; a.k.a. Fazul Abdallah; a.k.a. Fazul, Abdallah Mohammed; a.k.a. Fazul, Haroon; a.k.a. Fazul, Harun; a.k.a. Haroun, Fadhil, a.k.a. Mohammed, Fazul; a.k.a. Mohammed, Fazul Abdilahi; a.k.a. Mohammed Fouad; a.k.a. Muhamad, Fadil Abdallah; a.k.a. Aisha, Abu; a.k.a. Al Sudani, Abu Seif; a.k.a. Haroon; a.k.a. Harun; a.k.a. Luqman, Abu; DOB: 25 Aug 1972; Alt. DOB: 25 Dec 1974; Alt. DOB: 25 Feb 1974; POB: Moroni, Comoros Islands; Nationality: Comoros; Alt. Nationality: Kenya;

80. Mostafa Kamel Mostafa (a.k.a. Mustafa Kamel Mustafa, a.k.a. Adam Ramsey Eaman, a.k.a. Abu Hamza Al-Masri, a.k.a. Al-Masri, Abu Hamza, a.k.a. Al-Misri, Abu Hamza); DOB: April 15, 1958; Address: 9 Albourne Road, Shepherds Bush, London W12 OLW, UK; Alt. Address: Adie Road, Hammersmith, London W6 OPW, UK;

81. Fahid Mohammed Ally Msalam (a.k.a. Ally, Fahid Mohammed; a.k.a. Msalam, Fahad Ally; a.k.a. Msalam, Fahid Mohammed Ali; a.k.a. Msalam, Mohammed Ally; a.k.a. Musalaam, Fahid Mohammed Ali; a.k.a. Salem, Fahid Muhamad Ali, a.k.a. Al-Kini, Usama;); DOB: 19 Feb 1976; POB: Mombasa, Kenya; Nationality: Kenya;

82. Nada, Youssef Mustafa (a.k.a. Nada, Youssef; a.k.a. Nada, Youssef M.); DOB: 17 May 1931; Alt. DOB: 17 May 1937; POB: Alexandria, Egypt; Address: via Arogno 32, 6911 Campione d'Italia, Italy; Alt. Address: via per Arogno 32, ch-6911 Campione d'Italia, Italy; Alt. Address: via Riasc 4, ch-6911 Campione d'Italia I, Italy;

83. Abdelghani Mzoudi (a.k.a. Abdelghani Mazwati, a.k.a. Abdelghani Mazuti); DOB: 6 December 1972; POB: Marrakesh, Morocco; Nationality: Moroccan; Address: Currently (June 2003) being held in custody in Germany;

84. Najib Ouaz; DOB: 12 April 1960; POB: Hekaima (Tunisia); Address: Vicolo dei Prati n.2/2, Bologna, Italy;

85. Ahmed Hosni Rarrbo (a.k.a. Abdallah o Abdullah); DOB: 12 September 1974; POB: Bologhine (Algeria);

86. Abdelhalim Remadna; DOB: April 2, 1966; POB: Bistra, Algeria;

87. Nedal Saleh (a.k.a. Hitem); DOB: 1 March 1970; POB: Taiz (Yemen); Address: Via Milano n.105, Casal di Principe (Caserta), Italy; Alt. Address: Via di Saliceto n.51/9, Bologna, Italy;

88. Nabil Adbul Salam Sayadi (a.k.a. Abu Zeinab); DOB: 1/1/66; POB: El Hadid, Tripoli, Lebanon; Nationality: Belgian since 18/9/01; Other information: Spouse of Patricia Vinck. Married on 29/5/92 in Peshawar, Pakistan;

89. Sayf-Al Adl (a.k.a. Saif Al-'Adil); DOB: 1963; POB: Egypt; Nationality: Thought to be an Egyptian national; Other information: Responsible for Usama Bin Laden's security;

90. Ahmed Salim Swedan Sheikh (a.k.a. Ally, Ahmed; a.k.a. Suweidan, Sheikh Ahmad Salem; a.k.a. Swedan, Sheikh; a.k.a. Swedan, Sheikh Ahmed Salem a.k.a. Ahmed The Tall; a.k.a. Bahamad; a.k.a. Bahamad, Sheik; a.k.a. Bahamadi, Sheikh); DOB: 9 Apr 1969; Alt. DOB: 9 Apr 1960; POB: Mombasa, Kenya; Nationality: Kenya;

91. Thirwat Salah Shihata (a.k.a. Tarwat Salah Abdallah; a.k.a. Salah Shihata Thirwat; a.k.a. Shahata Thirwat); DOB: 29 Jun 60; POB: Egypt;

92. Mansour Thaer; DOB: March 21, 1974; POB: Baghdad, Iraq;

93. Lazhar Ben Mohammed Tlili; DOB: March 26, 1969; POB: Tunis, Tunisia; Address: Via Carlo Porta n. 97, Legnano, Italy;

94. Yuldashev Tohir (a.k.a. Yuldashev, Takhir); Other information: Uzbekistan;

95. Mohammed Tufail (a.k.a. Tufail, S.M.; a.k.a. Tuffail, Sheik Mohammed); Nationality: Pakistani;

96. Aweys Dahir Ubeldullahi; Address: via Cipriano Facchinetti 84, Rome, Italy;

97. Patricia Rosa Vinck (a.k.a. Souraya P. Vinck); DOB: 4/1/65; POB: Berchem, Antwerp; Nationality: Belgium; Other information: Spouse of Nabil Saydai;

98. Habib Waddani; DOB: June 10, 1970; POB: Tunis, Tunisia; Address: Via unica Borighero n. 1, San Donato M.se(MI), Italy; Other information: Italian;

99. Zelimkhan Ahmedovich Yandarbiev (a.k.a. Abdul-Muslimovich); DOB: 12 September 1952; POB: USSR, Eastern Kazakhstan region, village of Vydriha; Nationality: Russian Federation; Address: formerly Russian Federation, Chechen Republic, Grozny, Derzhavina str. 281-59;

100. Abdul Rahman Yasin (a.k.a. Taha, Abdul Rahman S.; a.k.a. Taher, Abdul Rahman S.; a.k.a. Yasin, Abdul Rahman Said; a.k.a. Yasin, Aboud); DOB: 10 Apr 1960; POB: Bloomington, Indiana, U.S.A.; Nationality: U.S.A.; Abdul Rahman Yasin is in Iraq.

101. Ali Ahmed Yusaf; (a.k.a. Ali Galoul); DOB: 20 November 1974; POB: Garbaharey, Somalia; Nationality: Swedish; Address: Kralingegrand 33 S-16362 Spanga;

102. Mansour Fattouh Zeinab; DOB: 07.05.1933; Address: Obere Heslibachstrasse 20, 8700 Kuesnacht, ZH, Switzerland;

D. The list of entities belonging to or associated with the Al-Qaida organization.

1. Abu Sayyaf Group (a.k.a. Al Harakat Al Islamiyya);

2. Afghan Support Committee (ASC) (a.k.a. Lajnat ul Masa Eidatul Afghaniab, a.k.a. Jamiat Ayat-ur-Rhas al Islamiac, a.k.a. Jamiat Ihya ul Turath al Islamia, a.k.a. Ahya ul Turas); Address: Headquarters-G.T. Road (probably Grand Trunk Road), near Pushtoon Garhi Pabbi, Peshwar, Pakistan; Atl. Address: Cheprahar Hadda, Mia Omar Sabaqah School, Jalabad, Afghanistan;

3. The Aid Organization of the Ulema, Pakistan (a.k.a. Al Rashid Trust; a.k.a. Al Rasheed Trust; a.k.a. Al-Rasheed Trust; a.k.a. Al-Rashid Trust); Addresses: Kitab Ghar, Darul Ifta Wal Irshad, Nazimabad No. 4, Karachi, Pakistan, Phone 6683301, Phone 0300-8209199, Fax 6623814; Alt. Address: 302b-40, Good Earth Court, Opposite Pia Planitarium, Block 13a, Gulshan-I Iqbal, Karachi, Phone 4979263; Alt. Address: 617 Clifton Center, Block 5, 6th Floor, Clifton, Karachi, Phone 587-2545; Alt. Address: 605 Landmark Plaza, 11 Chundrigar Road, Opposite Jang Building, Karachi, Pakistan, Phone 2623818-19; Alt. Address: Jamia Masjid, Sulaiman Park, Begum Pura, Lahore, Pakistan, Phone 042-6812081; Other information: Pakistan;

4. Akida Bank Private Limited; (f.k.a. Akida Islamic Bank, International Limited; f.k.a. Iksir International Bank Limited); Address: c/o Arthur D. Hanna & Company; Alt. Address: 10 Deveaux Street, Nassau, Bahamas; Alt. Address: P.O. Box N-4877, Nassau, Bahamas;

5. Akida Investment Co. Ltd. (a.k.a. Akida Investment Company Limited, f.k.a. Akida Bank Private Limited; Address: c/o Arthur D. Hanna & Company; Alt. Address: 10 Deveaux Street, Nassau, Bahamas; Alt. Address: P.O. Box N-4877, Nassau, Bahamas;

6. Al Baraka Exchange L.L.C.; Address: P.O. Box 3313 Deira Dubai, UAE; Alt. Address: P.O. Box 20066, Dubai, UAE;

7. Al-Barakaat; Address: Mogadishu, Somalia; Alt. Address: Dubai, UAE;

8. Al-Barakaat Bank; Address: Mogadishu, Somalia;

9. Al-Barakaat Wiring Service; Address: 2940 Pillsbury Avenue, Suite 4, Minneapolis, Minnesota 55408;

10. Al-Barakat Bank of Somalia (BSS) (a.k.a. Barakat Bank of Somalia); Address: Mogadishu, Somalia; Alt. Address: Bossaso, Somalia;

11. Al-Barakat Finance Group; Address: Dubai, UAE; Alt. Address: Mogadishu, Somalia;

12. Al-Barakat Financial Holding Co.; Address: Dubai, UAE; Alt. Address: Mogadishu, Somalia;

13. Al-Barakat Global Telecommunications (a.k.a. Barakaat Globetelcompany); Address: P.O. Box 3313, Dubai, UAE; Alt. Address: Mogadishu, Somalia; Alt. Address: Hargeysa, Somalia;

14. A1-Barakat Group of Companies Somalia Limited (a.k.a. Al-Barakat Financial Company); Address: P.O. Box 3313, Dubai, UAE; Alt. Address: Mogadishu, Somalia;

15. A1-Barakat International (a.k.a. Baraco Co.); Address: Box 2923, Dubai, UAE;

16. Al-Barakat Investments; Address: P.O. Box 3313, Deira, Dubai, UAE;

17. Al-Hamati Sweets Bakeries; Address: Al-Mukallah, Hadhramawt, Governorate, Yemen;

18. Al-Haramain Islamic Foundation; Address: Bosnia and Herzegovina;

19. Al-Haramain Islamic Foundation; Address: Somalia;

20. Al-Itihadd Al-Islamiya/AIAI;

21. Al-Jihad/Egyptian Islamic Movement (a.k.a. Egyptian Al-Jihad; a.k.a. Egyptian Islamic Jihad; a.k.a. Jihad Group; a.k.a. New Jihad);

22. Al-Nur Honey Press Shops (a.k.a. Al-Nur Honey Center); Address: Sanaa, Yemen;

23. Al Taqwa Trade, Property and Industry Company Limited; (f.k.a. Al Taqwa Trade, Property and Industry; f.k.a. Al Taqwa Trade, Property and Industry Establishment; f.k.a. Himmat Establishment); Address: C/O Asat Trust Reg., Altenbach 8,9490 Vaduz Fl, Liechtenstein;

24. Al Qa'ida/Islamic Army (a.k.a. “The Base,” a.k.a Al Qaeda, a.k.a. Islamic Salvation Foundation, a.k.a. the Group for the Preservation of the Holy Sites, a.k.a. The Islamic Army for the Liberation of Holy Places, a.k.a. The World Islamic Front for the Jihad Against Jews and Crusaders, a.k.a. Usama Bin Laden Network, a.k.a. Usama Bin Laden Organization);

25. Al Rashid Trust (a.k.a. Al-Rasheed Trust); Address: Kitas Ghar, Nazimabad 4, Dahgel-Iftah, Karachi, Pakistan; Alt. Address: Jamia Maajid, Sulalman Park, Melgium Pura, Lahore, Pakistan; Alt. Address: Office Dha'rbi-M'unin, Opposite Khyber Bank, Abbottabad Road, Mansehra, Pakistan; Alt. Address: Office Dha'rbi-M'unin ZR Brothers, Katcherry Road, Chowk Yadgaar, Peshawar, Pakistan; Alt. Address: Office Dha'rbi-M'unin, Rm No. 3, Moti Plaza, Near Liaquat 2Bagh, Muree Road, Rawalpindi, Pakistan; Alt. Address: Office Dha'rbi-M'unin, Top Floor, Dr. Dawa Khan Dental Clinic Surgeon, Main Baxae, Mingora, Swat, Pakistan; Other information: Operations in Afghanistan: Heart Jalalabad, Kbul, Kandahar, Mazar Sherif. Also operations in Kosovo, Chechnya;

26. Al-Shifa, Honey Press for Industry and Commerce; Address: P.O. Box 8089, Al-Hasabah, Sanaa, Yemen; Alt. Address: By the Shrine Next to the Gas Station, Jamal Street, Ta'iz, Yemen; Alt. Address: Al-Arudh Square, Khur Maksar, Aden, Yemen; Alt. Address: Al-Nasr Street, Doha, Qatar;

27. Ansar Al-Islam (a.k.a. Devotees of Islam; a.k.a. Jund al-Islam; a.k.a. Soldiers of Islam; a.k.a. Kurdistan Supporters of Islam; a.k.a. Supporters of Islam in Kurdistan; a.k.a. Followers of Islam in Kurdistan; a.k.a. Kurdistand Taliban; a.k.a. Soldiers of God; Other information: Location: The Kurdish-controlled area of northeastern Iraq;

28. Armed Islamic Group (a.k.a. Al Jamm'ah Al-Islamiah Al-Musallah; a.k.a. GIA; a.k.a.; Groupement Islamique Arme);

29. Asat Trust Reg.; Address: Altenbach 8, 9490 Vaduz Fl, Liechtenstein;

30. Asbat Al-Ansar;

31. BA Taqwa for Commerce and Real Estate Company Limited; Address: Vaduz, Liechtenstein; Alt. Address: formerly c/o/ Astat Trust reg;

32. Bank Al Taqwa Limited (a.k.a. Al Taqwa Bank; a.k.a. Bank Al Taqwa); Address, P.O. Box N-4877, Nassau, Bahamas; Alt. Address: C/O Arthur D. Hanna & Company; Alt. Address: 10 Deveaux Street, Nassau, Bahamas;

33. Barakaat Boston; Address: 266 Neponset Avenue, Apt. 43, Dorchester, Massachusetts 02122-3224;

34. Barakaat Construction Company; Address: P.O. Box 3313, Dubai, UAE;

35. Barakaat Group of Companies; Address: P.O. Box 3313, Dubai, UAE; Alt. Address: Mogadishu, Somalia;

36. Barakaat International; Address: Hallbybacken 15, 70 Spanga, Sweden;

37. Barakaat International Foundation; Address: Box 4036, Spanga, Stockholm, Sweden; Atl. Address: Rinkebytorget 1, 04 Spanga, Sweden;

38. Barakaat International, Inc.; Address: 1929 South 5th Street, Suite 205, Minneapolis, Minnesota;

39. Barakaat North America, Inc.; Address: 925 Washington Street, Dorchester, Massachusetts; Alt. Address: 2019 Bank Street, Ottawa, Ontario, Canada;

40. Barakaat Red Sea Telecommunications; Address: Bossaso, Somalia; Address: Nakhiil, Somalia; Address: Huruuse, Somalia; Address: Raxmo, Somalia; Address: Ticis, Somalia; Address: Kowthar, Somalia; Address: Noobir, Somalia; Address: Bubaarag, Somalia; Address: Gufure, Somalia; Address: Xuuxuule, Somalia; Address: Ala Aamin, Somalia; Address: Guureeye, Somalia; Address: Najax, Somalia; Address: Carafaat, Somalia;

41. Barakaat Telecommunications Co. Somalia, Ltd.; Address: P.O. Box 3313, Dubai, UAE;

42. Barakaat Wire Transfer Company; Address: 4419 South Brandon Street, Seattle, Washington;

43. Barakat Banks and Remittances; Address: Mogadishu, Somalia; Address: Dubai, UAE;

44. Barakat Computer Consulting (BCC); Address: Mogadishu, Somalia;

45. Barakat Consulting Group (BCG); Address: Mogadishu, Somalia;

46. Barakat Global Telephone Company; Address: Mogadishu, Somalia; Address: Dubai, UAE;

47. Barakat International Companies (BICO); Address: Mogadishu, Somalia; Address: Dubai, UAE;

48. Barakat Post Express (BPE); Address: Mogadishu, Somalia;

49. Barakat Refreshment Company; Address: Mogadishu, Somalia; Address: Dubai, UAE;

50. Barakat Telecommunications Company Limited (a.k.a. BTELCO), Address: Bakara Market, Dar Salaam Building, Mogadishu, Somalia; Last Known Address: The Netherlands;

51. Baraka Trading Company; Address: P.O. Box 3313, Dubai, UAE;

52. Barako Trading Company, LLC; Address: P.O. Box 3313, Dubai, UAE;

53. Benevolence International Foundation (a.k.a. Al Bir Al Dawalia; a.k.a. BIF; a.k.a. BIF-USA; a.k.a. Mezhdunarodnyj Blagotvoritel'nyl Fond); Address: 8820 Mobile Avenue, IA, Oak Lawn, Illinois, 60453 U.S.A.; Alt. Address: P.O. Box 548, Worth, Illinois, 60482 U.S.A.; Former Address: 9838 S. Roberts Road, Suite 1W, Palos Hills, Illinois, 60465 U.S.A.; Former Address: 20-24 Branford Place, Suite 705, Newark, New Jersey 07102 U.S.A.; Alt. Address: Bashir Safar Ugil 69, Baku, Azerbaijan; Alt. Address: 69 Boshir Safaroglu St., Baku, Azerbaijan; Alt. Address: Sarajevo, Bosnia-Herzegovina; Alt. Address: Zenica, Bosnia-Herzegovina; Last Known Address: 3 King Street, South Waterloo, Ontario, N2J 3Z6, Canada; Last Known Address: P.O. Box 1508 Station 1, Mississauga, Ontario, L4Y 4G2 Canada; Last Known Address: 2465 Cawthra Rd., #203, Mississauga, Ontario, L5A 3P2 Canada; Alt. Address: Ottawa, Canada; Alt. Address: Grozny, Chechnya; Alt. Address: 91 Paihonggou, Lanzhou, Gansu, China 730000; Alt. Address: Hrvatov 30, 41000, Zagreb, Croatia; Alt. Address: Makhachkala, Daghestan; Alt. Address: Duisi, Georgia; Alt. Address: Tbilisi, Georgia; Alt. Address: Nazran, Ingushetia; Alt. Address: Burgemeester Kessensingel 40, Masstricht, Netherlands; Alt. Address: Stichting Benevolence International Nederaland (a.k.a. Benevolence International Nederland, a.k.a. BIN) Radeborg 14B, 6228 CV Maastricht, Netherlands; Alt. Address: House 111, First Floor, Street 64, F-10/3, Islamabad, Pakistan; Alt. Address: P.O. Box 1055, Peshawar, Pakistan; Alt. Address: Azovshaya 6, km. 3, off. 401, Moscow, Russia 113149; Alt. Address: Ulitsa Oktyabr'skaya, dom. 89, Moscow, Russia 127521; Alt. Address: P.O. Box 1937, Khartoum, Sudan; Alt. Address: P.O. Box 7600, Jeddah 21472, Saudi Arabia; Alt. Address: P.O. Box 10845, Riyadh 11442, Saudi Arabia; Alt. Address: Dushanbe, Tajikistan; Alt. Address: United Kingdom; Alt. Address: Afghanistan; Alt. Address: Bangladesh; Alt. Address: Gaza Strip; Alt. Address: Bosnia-Herzegovina; Alt. Address: Yemen;

54. Benevolence International Fund (a.k.a. Benevolent International Fund); Last Known Address: 2465 Cawthra Rd., Unit 203, Mississauga, Ontario, L5A 3P2 Canada; Last Known Address: P.O. Box 1508, Station B, Mississauga, Ontario, L4Y 4G2 Canada; Last Known Address: P.O. Box 40015, 75 King Street South, Waterloo, Ontario, N2J 4V1 Canada; Last Known Address: 92 King Street, 201, Waterloo, Ontario, N2J 1P5 Canada;

55. Bosanska Idealna Futura (a.k.a. BIF-Bosnia; a.k.a. Bosnia Ideal Future); Address: Salke Lagumdzije 12, 71000 Sarajevo, Bosnia-Herzegovina; Alt. Address: Hadzije Mazica Put 16F, 72000 Zenica, Bosnia-Herzegovina; Alt. Address: Sehidska Street, Breza, Bosnia-Herzegovina; Alt. Address: Kanal 1, 72000 Zenica, Bosnia-Herzegovina; Alt. Address: Hamze Celenke 35, Ilidza, Sarajevo, Bosnia-Herzegovina; Other information: Doing business as BECF Charitable Educational Center, Benevolence Educational Center;

56. The Eastern Turkistan Islamic Movement (a.k.a. The Eastern Turkistan Islamic Party, a.k.a. The Eastern Turkistan Islamic Party of Allah);

57. Global Relief Foundation (GRF) (a.k.a. Foudation Secours Mondial (FSM); a.k.a. Secours mondial de France (SEMONDE); a.k.a. Foundation Secours Mondial—Belgique a.s.b.i.; a.k.a. Foundation Secours Mondial “World Relief”; Address: 9935 South 76th Avenue, Unit 1, Bridgeview, Illinois 60455, U.S.A.; Alt. Address: P.O. Box 1406, Bridgeview, Illinois 60455, U.S.A.; Alt. Address: 49 rue du Lazaret, 67100 Strasebourg, France; Alt. Address: Vaatjesstraat, 29, 2580 Putte, Belgium; Alt. Address: Rue des Bataves 69, 1040 Etterbeek, Brussels, Belgium; Alt. Address: P.O. Box 6, 1040 Etterbeek 2, Brussels, Belgium; Alt. Address: Mula Mustafe Baseskije Street No. 72, Sarajevo, Bosnia; Alt. Address: Put Mladih Muslimana Street 30/A, Sarajevo, Bosnia; Alt. Address: Rr. Skenderbeu 76, Lagjja Sefa, Gjakova, Kosovo; Alt. Address: Ylli Morina Road, Djakovica, Kosovo; Alt. Address: Rruga e Kavajes, Building No. 3, Apartment No. 61, P.O. Box 2892, Tirana, Albania; Alt. Address: House 267 Street No. 54, Sector F-11/4, Islamabad, Pakistan; Alt. Address: Saray Cad. No. 37 B Blok, Yesilyurt Apt. 2/4, Sirinevler, Turkey; Other information: Other Foreign Locations: Afghanistan, Azerbaijan, Bangladesh, Chechnya (Russia), China, Eritrea, Ethiopia, Georgia, India, Ingushetia (Russia), Iraq, Jordan, Kashmir, Lebanon, West Bank and Gaza, Sierra Leone, Somalia and Syria;

58. Gulf Center S.R.L.; Address: Corso Sempione 69, 20149 Milan, Italy;

59. Harakat Ul-Mujahidin/HUM (a.k.a. Al-Faran, a.k.a. Al-Hadid, a.k.a. Al-Hadith, a.k.a. Harakat Ul-Ansar, a.k.a. HUA, a.k.a. Harakat Ul-Mujahideen);

60. Heyatul Ulya; Address: Mogadishu, Somalia;

61. Islamic Army of Aden;

62. Islamic International Brigade (IIB); (a.k.a. The Islamic Peacekeeping Brigade; a.k.a. The Islamic Peacekeeping Army; a.k.a. The International Brigade; a.k.a. Islamic Peacekeeping Battalion; a.k.a. International Battalion; Islamic Peacekeeping International Brigade;

63. Islamic Movement of Uzbekistan (a.k.a. IMU);

64. Jaish-I-Mohammed (a.k.a. Army of Mohammed); Address: Pakistan;

65. Jam'yah Ta'awun Al-Islamia (a.k.a. Society of Islamic Cooperation, a.k.a. Jam'iyat Al Ta'awun Al Islamiyya, a.k.a. Jit); Address: Qandahar City, Afghanistan;

66. Jemaah Islamiyah (a.k.a. Jema'ah Islamiyah, a.k.a. Jemaah Islamiya, a.k.a. Jemaah Islamiah; a.k.a. Jamaah Islamiyah; a.k.a. Jama'ah Islamiyah; Other information: The network in Southeast Asia. Founded by the late Abdullah Sungkar;

67. Lajnat Al Daawa Al Islamiya (LDI);

68. Lashkar I Jhangvi (LJ);

69. Libyan Islamic Fighting Group;

70. Makhtab Al-Khidamat/Al Kifah;

71. Mamoun Darkazanli Import-Export Company (a.k.a. Darkazanli Company, a.k.a. Darkazanli Export-Import Sonderposten); Address: Uhlenhorsterweg 3411 Hamburg, Germany;

72. Miga-Malaysian Swiss, Gulf and African Chamber (f.n.a. Gulf Office Assoc. Per Lo Sviluppo Comm. Ind. E Turis; f.n.a. Fra Gli Stati Arabi Del Golfo E La Svizzera); Address: Via Maggio 21, 6900 Lugano TI, Switzerland;

73. Moroccan Islamic Combatant Group (a.k.a Groupe Islamique Combattant Marocain;

74. Nada International Anstalt; Address: Vaduz, Liechtenstein; Alt. Address: c/o Asat Trust reg.

75. Nada Management Organization SA (f.k.a. Al Taqwa Management Organization Sa); Address: Viale Stefano Franscini 22, Ch-6900 Lugano Ti, Switzerland;

76. NASCO Business Residence Center SAS DI Nasreddin Ahmed Idris EC; Address: Corso Sempione 69, 20149 Milan, Italy;

77. NASCO Nasreddin Holding A.S.; Address: Zemin Kat, 219 Demirhane Caddesi, Zeytinburnu, Istanbul, Turkey;

78. NASCOSERVICE S.R.L.; Address: Corso Sempione 69, 20149 Milan, Italy;

79. NASCOTEX S.A. (a.k.a. Industrie Generale De Filature Et Tissage; a.k.a. Industrie Generale De Textile); Address: KM 7 Route de Rabat, BP 285, Tangiers, Morocco; Alt. Address: KM 7 Route de Rabat, Tangiers, Morocco;

80. Nasreddin Company NASCO SAS DI Ahmed Idris Nasreddin EC; Address: Corso Sempione 69, 20149 Milan, Italy;

81. Nasreddin Foundation (a.k.a. Nasreddin Stiftung); Address: c/o Rechta Treuhand-Anstalt, Vaduz, Liechtenstein;

82. Nasreddin Group International Holding Limited (a.k.a. Nasreddin Group International Holdings Limited); Address: c/o Arthur D. Hanna & Company; Alt. Address: 10 Deveaux Street, Nassau, Bahamas; Alt. Address: P.O. Box N-4877, Nassau, Bahamas;

83. Nasreddin International Group Limited Holding (a.k.a. Nasreddin International Group Ltd. Holding); Address: c/o Rechta Treuhand-Anstalt, Vaduz, Liechtenstein; Alt. Address: Corso Sempione 69, 20149 Milan, Italy;

84. Parka Trading Company; Address: P.O. Box 3313, Deira, Dubai, UAE;

85. Rabita Trust; Address: Room 9a, 2nd Floor, Wahdat Road, Education Town, Lahore, Pakistan; Alt. Address: Wares Colony, Lahore, Pakistan;

86. Red Sea Barakat Company Limited; Address: Mogadishu, Somalia; Alt. Address: Dubai; UAE;

87. Revival of Islamic Heritage Society (RIHS); (a.k.a. Jamiat Ihia Al-Turath Al-Islamiya, a.k.a. Revival of Islamic Society Heritage on the African Continent, a.k.a. Jamia Ihya ui Turath) Address: Pakistan; Alt. Address: Afghanistan; Other information: Only the Pakistan and Afghanistan offices of this entity will be designated;

88. Riyadus-Salikhin Reconnaissance and Sabotage Battalion of Chechen Martyrs (RSRSBCM); (a.k.a. Riyadus-Salikhin Reconnaissance and Sabotage Battalion, a.k.a. Riyadh-as-Saliheen, a.k.a. The Sabotage and Military Surveillance Group of the Riyadh al-Salihin Martyrs, a.k.a. Firqat al-Takhrib wa al-Istitla al-Askariyah li Shuhada Riyadh al-Salihin;

89. Salafist Group for Call and Combat/GSPC (a.k.a. Le Groupe Salafiste Pour La Prediction et le Combat);

90. Somali International Relief Organization; Address: 1806 Riverside Avenue, 2nd Floor, Minneapolis, Minnesota;

91. Somali Internet Company; Address: Mogadishu, Somalia;

92. Somali Network Ab; Address: Hallybybacken 15, 70 Spanga, Sweden;

93. Special Purpose Islamic Regiment (SPIR) (a.k.a. The Islamic Special Purpose Regiment, a.k.a. The al-Jihad-Fisi-Sabililah Special Islamic Regiment);

94. Tunisian Combatant Group (a.k.a. Groupe Combattant Tunisien);

95. Ummah Tameer E-Nau (UTN); Address: Street 13, Wazir Akbar Khan, Kabul, Afghanistan; Alt. Address: Pakistan;

96. Wafa Humanitarian Organization (a.k.a. Al Wafa, a.k.a. Al Wafa Organization; a.k.a. Wafa Al-Igatha Al-Islamia); Address: Jordan House No. 125, Street 54, Phase II Hayatabad, Peshawar, Pakistan; Alt. Address: Saudi Arabia; Alt. Address: Kuwait; Alt. Address: UAE;

97. Youssef M. Nada; Address: Via Riasc 4, Ch-6911 Campionie D'Italia I, Switzerland;

98. Youssef M. Nada & Co. Gescellschaft M.B.H.; Address: Kaertner Ring 2/2/5/22, 1010 Vienna, Austria.

Dated: August 13, 2003.
John R. Bolton,
Under Secretary, Arms Control and International Security, Department of State.

[FR Doc. 03-21790 Filed 8-22-03; 8:45 am]

BILLING CODE 4710-25-P